FEDERAL MARITIME COMMISSION

Ocean Transportation Intermediary License; Rescission of Order of Revocation

Notice is hereby given that the Order revoking the following license is being rescinded by the Federal Maritime Commission pursuant to sections 14 and 19 of the Shipping Act of 1984 (46 U.S.C. app. 1718) and the regulations of the Commission pertaining to the licensing of Ocean Transportation Intermediaries, 46 CFR part 515.

License Number: 018391N.

Name: LCL Cargo Services Inc.

Address: 8100 NW., 29th Street, Miami, FL 33122.

Order Published: FR: 12/22/04 (Volume 69, No. 245, Pg. 76766).

Sandra L. Kusumoto,
Director, Bureau of Certification and Licensing.

[FR Doc. 05-2149 Filed 2-3-05; 8:45 am]

BILLING CODE 6730-01-P